DEPARTMENT OF THE INTERIOR

National Park Service

National Register of Historic Places; Notification of Pending Nominations

Nominations for the following properties being considered for listing in the National Register were received by the National Park Service before June 16, 2001 Pursuant to section 60.13 of 36 CFR Part 60 written comments concerning the significance of these properties under the National Register criteria for evaluation may be forwarded to the National Register, National Park Service, 1849 C St. NW, NC400, Washington, DC 20240. Written comments should be submitted by July 17, 2001.

Patrick W. Andrus,
Acting Keeper of the National Register of Historic Places.

COLORADO

Gunnison County

Town of Crested Butte (Boundary Increase and Boundary Decrease), Roughly bounded by Gothic Ave., 6th St., White Rock Ave., and First St., Crested Butte, 01000738

FLORIDA

Polk County

Dundee ACL Railroad Depot, Old, 103 Main St., Dundee, 01000739

GEORGIA

Chatham County

Gordonston Historic District, Roughly bounded by Skidaway Rd., Goebel Ave., Gwinnett St., and Pennslyvania Ave., Savannah, 01000741

Clarke County

Winterville Historic District, Roughly center on Main St. and on the abandoned Georgia RR line within the city limits of Winterville, Winterville, 01000742

Greene County

Siloam Historic District, Roughly centered on Main St., Union Point Hwy., and Church St., Siloam, 01000740

KENTUCKY

Carter County

Saltpeter Cave, Carter Caves State Resort Park, Olive Hill, 01000743

MARYLAND

Baltimore Independent city

Guilford Historic District, Rghly bnded by N. Charles St, Warrenton Rd, Linkwood Rd, Cold Spring Ln, York Rd, Southway, University Pky and Bishops Rd., Baltimore (Independent City), 01000745

Frederick County

Tipahato, 17130 Raven Rock Rd., Cascade, 01000744

MASSACHUSETTS

Hampden County

Dewey, Joseph, House, 87 S. Maple St., Westfield, 01000746

MINNESOTA

Becker County

Holmes Block, 710-718 Washington Ave., Detroit Lakes, 01000748

Fillmore County

Commercial House Hotel, 146 S. Broadway, Spring Valley, 01000747

Hennepin County

North East Neighborhood House, 1929 Second St. NE, Minneapolis, 01000749

MISSISSIPPI

Choctaw County

Choctaw Lake Ranger House, Address Restricted, Ackerman, 01000753

Holmes County

Lexington Historic District, Roughly Courthouse Sq., along Yazoo, Vine, Tchula, Boulevard, Springs, Race Sts., and Old Tchula Rd., Lexington, 01000754

MISSOURI

Butler County

Rodgers Theatre Building, 204, 214, 216, 218, 220, 222 and 224 N. Broadway, Poplar Bluff, 01000750

SOUTH CAROLINA

Spartanburg County

Hurricane Tavern, 4101 SC 101, Woodruff, 01000755

TENNESSEE

Montgomery County

Northington—Beach House, (Clarksville MPS) 512 Madison St., Clarksville, 01000758

Sevier County

Headrick's Chapel, Wears Valley Rd., Harchertown, 01000756

Wilson County

Chandler Stone Wall, Old Lebanon Rd., 2 mi. W of Mount Juliet Rd., Mount Juliet, 01000757

[FR Doc. 01-16496 Filed 6-29-01; 8:45 am]

BILLING CODE 4310-70-P